DEPARTMENT OF ENERGY

Federal Energy Regulatory Commission

[Docket No. CP19-99-000]

Natural Gas Company of America LLC; Notice of Application

Take notice that on February 28, 2019, Natural Gas Pipeline Company of America LLC (Natural), 3250 Lacey Road, Downers Grove, Illinois 60615, filed in Docket No. CP19-99-000 an application pursuant to sections 7(b) and 7(c) of the Natural Gas Act (NGA) requesting authorization to construct, install, and operate: (i) A new 10,000 horsepower (hp) EMD compressor unit and auxiliary facilities at Compressor Station (CS) 300 in Victoria County, Texas; (ii) a new 15,900 hp Solar Mars 100 turbine and auxiliary facilities at CS 301 in Wharton County, Texas; and (iii) two new 23,470 hp (each) Solar Titan 130 turbines and auxiliary facilities at CS 304 in Harrison County, Texas. Natural also proposes to abandon in place two 3,000 hp gas-fired compressor units at CS 300 and abandon all ten existing units at CS 304. Natural states that the project would provide a total of 72,840 hp, enabling Natural to deliver about 300,000 dekatherms per day (Dth/d) of incremental firm southbound transportation capacity on their Gulf Coast Mainline System to the project shipper, Corpus Christi Liquefaction LLC, with an additional 28,000 Dth/d of currently unsubscribed incremental firm capacity to be made available by Natural to the market. Natural is proposing negotiated rates and estimates the total cost of the Project to be approximately $145,248,818, all as more fully set forth in the application which is on file with the Commission and open to public inspection.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Bruce H. Newsome, Vice President, Natural Gas Pipeline Company of America LLC, 3250 Lacey Road, Suite 700, Downers Grove, Illinois 60515, by telephone at (630) 725-3070, or by email at bruce_newsome@kindermorgan.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy regulatory Commission, 888 First Street NE, Washington, DC 20426.

Comment Date: March 27, 2019.

Dated: March 6, 2019.
Kimberly D. Bose,
Secretary.

[FR Doc. 2019-04671 Filed 3-13-19; 8:45 am]

BILLING CODE 6717-01-P